SMALL BUSINESS ADMINISTRATION

[Disaster Declaration # 15796 and # 15797; Virginia Disaster Number VA-00077]

Administrative Declaration of a Disaster for the Commonwealth of Virginia

AGENCY: U.S. Small Business Administration.

ACTION: Notice.

SUMMARY: This is a notice of an Administrative declaration of a disaster for the Commonwealth of Virginia dated 11/13/2018.

Incident: Tropical Storm Michael.

Incident Period: 10/10/2018 through 10/15/2018.

DATES: Issued on 11/13/2018. Physical Loan Application Deadline Date: 01/14/2019. Economic Injury (EIDL) Loan Application Deadline Date: 08/13/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's disaster declaration, applications for disaster loans may be filed at the address listed above or other locally announced locations.

The following areas have been determined to be adversely affected by the disaster:

Primary Areas/Cities: Independent Cities of Danville, Salem.

Contiguous Counties:

Virginia—Pittsylvania, Roanoke, Roanoke City.

North Carolina—Caswell.

The Interest Rates are:

| Percent
For Physical Damage:
Homeowners with Credit Available Elsewhere | 4.000
Homeowners without Credit Available Elsewhere | 2.000
Businesses with Credit Available Elsewhere | 7.350
Businesses without Credit Available Elsewhere | 3.675
Non-Profit Organizations with Credit Available Elsewhere | 2.500
Non-Profit Organizations without Credit Available Elsewhere | 2.500
For Economic Injury:
Businesses & Small Agricultural Cooperatives without Credit Available Elsewhere | 3.675
Non-Profit Organizations without Credit Available Elsewhere | 2.500

The number assigned to this disaster for physical damage is 15796 8 and for economic injury is 15797 0.

The States which received an EIDL Declaration # are Virginia, North Carolina.

(Catalog of Federal Domestic Assistance Number 59008)

Dated: November 13, 2018.
Linda E. McMahon,
Administrator.

[FR Doc. 2018-25219 Filed 11-19-18; 8:45 am]

BILLING CODE 8025-01-P